SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the individuals at the addresses and fax numbers listed below: (SSA), Social Security Administration, DCFAM, Attn: Reports Clearance Officer, 1333 Annex Building, 6401 Security Blvd., Baltimore, MD 21235, Fax: 410-965-6400.

The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Statement of Funds You Provided to Another and Statement of Funds You Received—20 CFR 416.1103(f)—0960-0481. Forms SSA-2854 and SSA-2855 collect information in situations where the Supplemental Security Income (SSI) beneficiary alleges that he or she borrowed funds informally from a non-commercial lender, e.g., a relative or a friend. The statements are required to determine whether the proceeds from the transaction are income to the borrower. If the transaction constitutes a bona fide loan, then the proceeds are not income to the borrower. The respondents are the borrower/beneficiary and the lender of the funds.

Type of Request: Extension of an OMB-approved information collection.

Number of Respondents: 40,000.

Frequency of Response: 1.

Average Burden per Response: 10 minutes.

Estimated Annual Burden: 6,667 hours.

2. Quickstart Enrollment—31 CFR 209 and 210—0960-0564. Social Security beneficiaries and SSI recipients can enroll for direct deposit/electronic funds transfer through their financial institutions (FIs) using an automated enrollment process. SSA uses the information to facilitate electronic transmission of data for direct deposit of funds to a payee's account. The respondents are Social Security beneficiaries and SSI recipients requesting direct deposit to their FIs.

Type of Request: Extension of an OMB-approved information collection.

Number of Respondents: 3,950,000.

Frequency of Response: 1.

Average Burden per Response: 3 minutes.

Estimated Annual Burden: 197,500 hours.

3. Certificate of Election for Reduced Spouse's Benefits—20 CFR 404.421—0960-0398. SSA uses the information collected on Form SSA-25 to pay a qualified spouse who elects to receive a reduced benefit. Reduced benefits are not payable to an already entitled spouse, at least age 62 but under full retirement age, who no longer has a child in care unless the spouse elects to receive reduced benefits. Respondents are entitled spouses seeking reduced benefits.

Type of Request: Revision of an OMB-approved information collection.

Number of Respondents: 30,000.

Frequency of Response: 1.

Average Burden per Response: 2 minutes.

Estimated Annual Burden: 1,000 hours.

4. Voluntary Customer Satisfaction Surveys in Accordance With E.O. 12862 for the Social Security Administration—0960-0526. Under the auspices of E.O. 12862, Setting Customer Service Standards, SSA conducts multiple customer satisfaction surveys each year. These voluntary customer satisfaction assessments include paper, Internet, and telephone surveys; mailed questionnaires; focus groups; and customer comment cards. The purpose of these surveys is to assess customer satisfaction with the timeliness, appropriateness, access, and overall quality of the services SSA provides. The respondents are direct recipients of SSA services and professionals and other individuals who work on behalf of SSA beneficiaries.

Type of Request: Extension of an OMB-approved information collection.

| Fiscal year 2006 | Fiscal year 2007 | Fiscal year 2008
Number of Respondents | 1,352,180 | 1,356,100 | 1,357,850
Frequency of Response | 1 | 1 | 1
Range of Response Times | Varies (5 minutes to 1½ hours) | Varies (5 minutes to 1½ hours) | Varies (5 minutes to 1½ hours).
Estimated Annual Burden | 119,645 hours | 121,009 hours | 121,190 hours.

Dated: January 27, 2006.
Elizabeth A. Davidson,
Reports Clearance Officer, Social Security Administration.

[FR Doc. E6-1424 Filed 2-2-06; 8:45 am]

BILLING CODE 4191-02-P